DEPARTMENT OF JUSTICE

[OMB Number 1121-0184]

Agency Information Collection Activities; Proposed eCollection eComments Requested; Revision of a Currently Approved Collection: School Crime Supplement (SCS) to the National Crime Victimization Survey (NCVS)

AGENCY: Bureau of Justice Statistics, Department of Justice.

ACTION: 30-Day notice.

SUMMARY: The Department of Justice (DOJ), Bureau of Justice Statistics, will be submitting the following information collection request to the Office of Management and Budget (OMB) for review and approval in accordance with the Paperwork Reduction Act of 1995.

DATES: Comments are encouraged and will be accepted for 30 days until September 30, 2024.

FOR FURTHER INFORMATION CONTACT: If you have comments especially on the estimated public burden or associated response time, suggestions, or need a copy of the proposed information collection instrument with instructions or additional information, please contact: Alexandra Thompson (email: Alexandra.Thompson@usdoj.gov; telephone: 202-532-5472).

SUPPLEMENTARY INFORMATION: The proposed information collection was previously published in the Federal Register on June 18, 2024, allowing a 60-day comment period.The proposed information collection was previously published in the Federal Register at 89 FR 51550-51551 on June 18, 2024, allowing a 60-day comment period.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number [1121-0184]. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

1. Type of Information Collection: Revision of a currently approved collection.

2. Title of the Form/Collection: 2025 School Crime Supplement (SCS) to the National Crime Victimization Survey (NCVS).

3. Agency form number, if any, and the applicable component of the Department of Justice sponsoring the collection: The form number for the questionnaire is SCS-1. The applicable component within the Department of Justice is the Bureau of Justice Statistics (BJS), in the Office of Justice Programs.

4. Affected public who will be asked or required to respond, as well as a brief abstract: The survey will be administered to persons ages 12 to 18 in NCVS sample households in the United States from January through June 2025.

The SCS collects information on the students' victimization, perceptions of school environment, and safety at school. The SCS includes questions on preventive measures used by schools; students' participation in after school activities; students' perceptions of safety and belonging in schools; students' perception of school rules and enforcement of these rules; the presence of weapons, illegal and prescription drugs including opioids, alcohol, and gangs in school; student bullying; hate-related incidents; and attitudinal questions relating to the fear of victimization at school. Minor edits were made to the 2022 SCS questionnaire for the 2025 administration. Some items were removed as they were not applicable in 2025. This included specific questions or responses related to the COVID-19 pandemic and how it impacted how students attended school. Changes were also made to the series of questions on drug and alcohol availability, based on language from the National Survey on Drug Use and Health (NSDUH).

5. Obligation to Respond: The survey is voluntary, and respondents are not required to respond.

6. Total Estimated Number of Respondents: 5,530.

7. Estimated Time per Respondent: 17 minutes to complete the full SCS questionnaire. For an estimated 13% of respondents, the SCS will take about 2 minutes to complete, due to respondents screening out of the survey for not being in school.

8. Frequency: Approximately every two years.

9. Total Estimated Annual Time Burden: 1,387 hours.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: August 27, 2024.
Darwin Arceo,
Department Clearance Officer for PRA, U.S. Department of Justice.

[FR Doc. 2024-19549 Filed 8-29-24; 8:45 am]

BILLING CODE 4410-18-P